DEPARTMENT OF THE INTERIOR

Fish and Wildlife Service

Hanford Reach National Monument Federal Advisory Committee Meetings Notice

AGENCY: Fish and Wildlife Service.

ACTION: Hanford Reach National Monument Federal Advisory Committee meetings notice.

SUMMARY: The U.S. Fish and Wildlife Service (Service) is announcing two meetings of the Hanford Reach National Monument Federal Planning Advisory Committee (Committee). Meeting details are under DATES.

DATES: The Committee has scheduled the following two meetings:

1. Wednesday, April 16, 2003 from 1 p.m. to 7 p.m., Columbia Basin College, CH2M Hill Technology Education Center Rooms 180 B and E, 2600 N. 20th Avenue, Pasco, Washington.

2. Thursday, May 29, 2003 from 9 a.m. to 4 p.m., Washington State University Tri-Cities, Consolidate Information Center Rooms 120 and 120A, 2770 University Drive, Richland, Washington.

Verbal comments will be considered during the course of the meeting and written comments will be accepted at the close of the meeting. Comments may also be submitted via email or mail to the Monument office addresses below. The meetings are open to the public.

ADDRESSES: Any member of the public wishing to submit written comments should send those to Mr. Greg Hughes, Designated Federal Official for the Hanford Reach National Monument (HRNM) Federal Planning Advisory Committee, Hanford Reach National Monument/Saddle Mountain National Wildlife Refuge, 3250 Port of Benton Blvd., Richland, WA 99352; fax (509) 375-0196. Copies of the draft meeting agenda can be obtained from the Designated Federal Official. Comments may be submitted via e-mail to hanfordreach@fws.gov.

FOR FURTHER INFORMATION CONTACT: Any member of the public wishing further information concerning the meeting should contact Mr. Greg Hughes, Designated Federal Official for the HRNM Federal Planning Advisory Committee; phone (509) 371-1801, fax (509) 375-0196.

SUPPLEMENTARY INFORMATION: Over the next several months, the Committee will receive information from Planning Workshops and present advice to the Service and Department of Energy on draft products from the Workshops to be considered in the Comprehensive Conservation Plan and Environmental Impact Statement. The Committee will also nominate and elect a chair and vice-chair.

Dated: February 14, 2003.
Rowan Gould,
Deputy Regional Director, Region 1, Portland, Oregon.

[FR Doc. 03-6135 Filed 3-13-03; 8:45 am]

BILLING CODE 4310-55-P